DEPARTMENT OF STATE

[Public Notice: 12076]

Proposal To Extend the Cultural Property Agreement Between the United States and Bulgaria

SUMMARY: Proposal to extend and amend the Memorandum of Understanding Between the Government of the United States of America and the Government of the Republic of Bulgaria Concerning the Imposition of Import Restrictions on Categories of Archaeological Material and Ethnological Material of the Republic of Bulgaria.

FOR FURTHER INFORMATION CONTACT: Chelsea Freeland, Cultural Heritage Center, Bureau of Educational and Cultural Affairs: (202) 714-8403; culprop@state.gov; include “Bulgaria” in the subject line.

SUPPLEMENTARY INFORMATION: Pursuant to the authority vested in the Assistant Secretary of State for Educational and Cultural Affairs, and pursuant to 19 U.S.C. 2602(f)(1), an extension and amendment of the Memorandum of Understanding Between the Government of the United States of America and the Government of the Republic of Bulgaria Concerning the Imposition of Import Restrictions on Categories of Archaeological Material and Ethnological Material of the Republic of Bulgaria is hereby proposed.

A copy of the Memorandum of Understanding, the Designated List of categories of material restricted from import into the United States and related information can be found at the Cultural Heritage Center website: http://culturalheritage.state.gov.

Allison R. Davis Lehmann,
Executive Director, Cultural Property Advisory Committee, Bureau of Educational and Cultural Affairs, Department of State.

[FR Doc. 2023-10768 Filed 5-18-23; 8:45 am]

BILLING CODE 4710-05-P